ENVIRONMENTAL PROTECTION AGENCY

[EPA-R01-OW-2008-0213; FRL-8696-7]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the state waters of Boston, Braintree, Cambridge, Chelsea, Everett, Hingham, Hull, Milton, Newton, Quincy, Watertown, Weymouth, and Winthrop.

ADDRESSES: Docket: All documents in the docket are listed in the www.regulations.gov index. Although listed in the index, some information is not publicly available, e.g., CBI or other information whose disclosure is restricted by statute. Certain other material, such as copyrighted material, will be publicly available only in hard copy. Publicly available docket materials are available electronically in www.regulations.gov.

FOR FURTHER INFORMATION CONTACT: Ann Rodney, U.S. Environmental Protection Agency—New England Region, One Congress Street, Suite 1100, COP, Boston, MA 02114-2023. Telephone: (617) 918-0538. Fax number: (617) 918-1505. e-mail address: Rodney.ann@epa.gov.

SUPPLEMENTARY INFORMATION: This Notice of Determination is for the state waters of Boston, Braintree, Cambridge, Chelsea, Everett, Hingham, Hull, Milton, Newton, Quincy, Watertown, Weymouth, and Winthrop. The area of designation includes:

Waterbody/general area | Latitude | Longitude
Landside Town boundary between Revere and Winthrop | 42°23′30″ N | 70°58′50″ W
Offshore town boundary between Nahant, Revere, and Winthrop | 42°24′28″ N | 70°57′33″ W
Offshore town boundary between Nahant and Winthrop | 42°23′13″ N | 70°55′28″ W
Offshore town boundary between Nahant and Winthrop | 42°23′04″ N | 70°54′04″ W
Offshore town boundary between Nahant and Winthrop | 42°23′32″ N | 70°51′28″ W
Aid to Navigation RW “BG” Mo (A), 1.6nm NNE of the Graves | 42°23′27” N | 70°51′30” W
Aid to Navigation G “5” Fl G 4s WHISTLE, 0.8nm NE of the Graves | 42°22′34″ N | 70°51′29″ W
Aid to Navigation R “2” Fl R 4s BELL, Three & One-Half Fathom Ledge | 42°21′04″ N | 70°50′31″ W
Aid to Navigation G “1” Q G WHISTLE, Thieves Ledge | 42°19′32″ N | 70°49′51″ W
Offshore town boundary between Hull and Cohasset | 42°18′34″ N | 70°47′25″ W
Landside boundary between Hull and Cohasset | 42°15′54″ N | 70°49′34″ W

The landward boundaries of the NDA are:

Waterbody/general area | Latitude | Longitude
The Saratoga Street bridge between Winthrop and Boston | 42°22′58″ N | 70°59′40″ W
The railway bridge on the Chelsea River between Chelsea and Revere | 42°24′06″ N | 71°00′40″ W
The Amelia Earhart Dam on the Mystic River | 42°23′42″ N | 71°04′30″ W
The Watertown Dam on the Charles River | 42°21′55″ N | 71°11′22″ W
The Baker Dam on the Neponset River | 42°16′15″ N | 71°04′08″ W
The Shaw Street bridge on the Weymouth Fore River | 42°13′20″ N | 71°58′25″ W
Where Bridge Street crosses the Weymouth Back River between Weymouth and Hingham | 42°14′50″ N | 70°55′52″ W
Where Nantasket Avenue crosses the Weir River between Hingham and Hull | 42°15′37″ N | 70°50′41″ W

On June 6, 2008, notice was published that the Commonwealth of Massachusetts had petitioned the Regional Administrator, Environmental Protection Agency, to determine that adequate facilities for the safe and sanitary removal and treatment of sewage from all vessels are reasonably available for the state waters of Boston, Braintree, Cambridge, Chelsea, Everett, Hingham, Hull, Milton, Newton, Quincy, Watertown, Weymouth, and Winthrop. Three comments were received on this petition.

The petition was filed pursuant to Section 312(f)(3) of Public Law 92-500, as amended by Public laws 95-217 and 100-4, for the purpose of declaring these waters a “No Discharge Area” (NDA).

Section 312(f)(3) states: After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.

The information submitted to EPA by the Commonwealth of Massachusetts certifies that there are 35 pumpout facilities located within the area. A list of the facilities, with phone numbers, locations, and hours of operation is appended at the end of this determination.

Based on the examination of the petition, its supporting documentation, and information from site visits conducted by EPA New England staff, EPA has determined that adequate facilities for the safe and sanitary removal and treatment of sewage from all vessels are reasonably available for the area covered under this determination.

This determination is made pursuant to Section 312(f)(3) of Public Law 92-500, as amended by Public Laws 95-217 and 100-4.

Pumpout Facilities Within the No Discharge Area
Name | Location | Contact info. | Hours | Mean low water depth (ft)
Boston Harbor Shipyard and Marina | Boston | (617) 561-1400 VHF 9 | 7 a.m.-8 p.m. On call | *** 25
The Marina At Rowes Wharf | Boston | (617) 439-3131 VHF 9 | 8 a.m.-4 p.m. May 1-Oct 31 | 10
Boston Waterboat Marina | Boston | (617) 523-1027 VHF 9 | 7 a.m.-7 p.m. Call ahead | *** 5 to 25
Boston Yacht Haven | Boston | (617) 367-5050 VHF 9 | 8 a.m.-7 p.m. | 10
Black Falcon Pier | Boston | (617) 946-4417 | 9 a.m.-5 p.m. | 35
**Boston Harbor Cruises | Boston | (617) 227-4321 | 6:30 a.m.-8:30 p.m. (weekdays) | 22
|  |  | 10 a.m.-6:30 p.m. (weekends) |
Boston Towing & Transportation | Boston | (617) 567-9100 | 24/7 | ***
*City of Boston | Boston | TBD | TBD | ***
*Berth 10 | Boston | (617) 918-6203 | TBD |
**Mass Bays Lines | Boston | (617) 542-8000 |  |
Charles River Yacht Club | Cambridge | (617) 354-8881 VHF 9 | 8 a.m.-8 p.m. | ***
**Charles Riverboat Company | Cambridge | (617) 621-3001 |  |
Constitution Marina | Charlestown | (617) 241-9818 VHF 69 | 9 a.m.-8 p.m. (summer) 9 a.m.-5 p.m. (winter) | 30 ***
Mystic Marine | Charlestown | (617) 293-6247 VHF 72 | 7 a.m.-7 p.m. (Mon-Fri) | 35 35
Shipyard Quarters Marina | Charlestown | (617) 242-2020 VHF 7, 9,16 | 8 a.m.-7 p.m. | *** 20
Charleston Pier 4 | Charlestown | (617) 918-6231 | Appointment Only | 30
*Charlestown Pier 3 | Charlestown | (617) 918-6201 | TBD |
**Constellation Tug | Charlestown | (617) 561-0223 | 24/7 | ***
Marine At Admirals Hill | Chelsea | (617) 889-4002 VHF 9, 10 | 8 a.m.-5 p.m. | 6
Dorchester Yacht Club | Dorchester | (617) 436-1002 VHF 9 | 8 a.m.-6 p.m. | 7
Port Norfolk Yacht Club | Dorchester | (617) 822-3333 VHF 9, 11 | 24/7 self-service | 7.5
Town of Hingham | Hingham | (781) 741-1450 VHF 12, 16 | 3 p.m.-7 p.m. (Tue, Thurs, Sat & Sun) | ***
Town of Hull | Hull | (781) 925-0316 VHF 9,16 | 8 a.m.-4 p.m. | *** *TBD
Quincy Bay | Quincy | (617) 908-9757 VHF 9 | 8 a.m.-4 p.m. (weekend) High-tide (weekday) | *** ***
Bay Pointe Marina | Quincy | (617) 471-1777 VHF 9 | Call ahead | 8
Captain's Cove Marina | Quincy | (617) 328-3331 VHF 69 | 24/7 | 6
Marina Bay on Boston Harbor | Quincy | (617) 847-1800 VHF 10 | 7:30 a.m.-8 p.m. | ***
Town River Yacht Club | Quincy | (617) 471-2716 VHF 71 | Call ahead | 35
**Harbor Express | Quincy | (617) 542-8000 |  |
Watertown Yacht Club | Watertown | (617) 924-9848 | 8 a.m.-4 p.m. (Tue-Thur, Sat) 11 a.m.-7 p.m. (Fri) | 6
Wessagussett Yacht Club | Weymouth | VHF 71 | 6 a.m.-8 p.m. (Mon-Fri) 9 a.m.-9 p.m. (Sat-Sun) | 8
Town of Winthrop | Winthrop | (617) 839-4000 VHF 9,16 | 10 a.m.-8 p.m. | *** 8 to 30
* = Pending facilities.
** = Private commercial facilities.
*** = Not applicable.

Dated: July 9, 2008.
Robert W. Varney,
Regional Administrator, Region 1.

[FR Doc. E8-16981 Filed 7-23-08; 8:45 am]

BILLING CODE 6560-50-P